OFFICE OF THE UNITED STATES TRADE REPRESENTATIVE

15 CFR Part 2004

RIN 0350-AA13

Technical Amendment: Freedom of Information Act Policies and Procedures

AGENCY: Office of the United States Trade Representative (USTR).

ACTION: Adoption of interim rule as final.

SUMMARY: This final rule adopts, without change, an interim final rule with a request for comments published in the Federal Register on July 25, 2023, that made a minor technical change to the USTR Freedom of Information Act (FOIA) regulation.

DATES: Effective October 2, 2023.

FOR FURTHER INFORMATION CONTACT: Janice Kaye or Monique Ricker at FOIA@ustr.eop.gov or 202-395-3150.

SUPPLEMENTARY INFORMATION:

I. Technical Change

On July 25, 2023, USTR published an interim final rule that made a technical change to § 2004.6 of the USTR FOIA regulation to align it with the statute and Office of Information Policy guidance about the compelling circumstances under which an agency must grant expedited processing. See 88 FR 47772. Although the interim final rule was effective upon publication, USTR provided a 30-day comment period, which ended on August 24, 2023. USTR did not receive any comments and is adopting the interim final rule without any changes.

II. Regulatory Flexibility Act

USTR considered the impact of this rule and determined that it will not have a significant economic impact on a substantial number of small business entities because it applies only to USTR's internal operations and legal obligations. 5 U.S.C. 605(b).

III. Paperwork Reduction Act

The final rule does not contain any information collection requirement that requires the approval of the Office of Management and Budget under the Paperwork Reduction Act (44 U.S.C. 3501 et seq.).

IV. Administrative Procedure Act (APA)

On July 25, 2023, USTR published an interim final rule (88 FR 47772) and determined that there was a basis under the Administrative Procedure Act for issuing the interim final rule with immediate effect. USTR provided a 30-day comment period, which ended on August 24, 2023. USTR did not receive any comments and is adopting the provisions of the interim final rule as a final rule with no changes.

List of Subjects in 15 CFR Part 2004

Administrative practice and procedure, Courts, Disclosure, Exemptions, Freedom of information, Government employees, Privacy, Records, Subpoenas, Testimony.

PART 2004—DISCLOSURE OF RECORDS AND INFORMATION

Accordingly, the interim final rule published in the Federal Register on July 25, 2023, at 88 FR 47772, amending 15 CFR part 2004, is adopted as a final rule without change.

Janice Kaye,
Chief FOIA Officer, Office of the United States Trade Representative.

[FR Doc. 2023-18866 Filed 8-30-23; 8:45 am]

BILLING CODE 3290-F3-P